DEPARTMENT OF LABOR

Employment and Training Administration

[TA-W-51,659]

Brookline, Inc., Charlotte, North Carolina; Notice of Negative Determination Regarding Application for Reconsideration

By application of July 7, 2003, a company official requested administrative reconsideration of the Department's negative determination regarding eligibility to apply for Trade Adjustment Assistance (TAA), applicable to workers and former workers of the subject firm. The denial notice was signed on June 23, 2003, and published in the Federal Register on July 10, 2003 (68 FR 41179).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Brookline, Inc., Charlotte, North Carolina was denied because the “contributed importantly” group eligibility requirement of Section 222 of the Trade Act of 1974, as amended, was not met. The “contributed importantly” test is generally demonstrated through a survey of customers of the workers' firm. The survey revealed that none of the respondents increased their purchases of knit fabric. The company did not import knit fabric in the relevant period nor did it shift production to a foreign country.

The company official states that his business, as well as the cut and sew businesses he sells to, have been displaced as a result of retailers purchasing finished apparel abroad. The official concludes that the subject firm is obviously import impacted as a result of this.

In assessing import impact, the Department considers imports of like or directly competitive products (in this case, knit fabrics) to determine import impact. Thus, the imports of apparel are not relevant in determining import impact in a primary investigation of these workers. The imports of apparel would be relative in determining secondary impact on the subject firm workers if the subject firm supplied knit fabric to customers producing apparel who were under active TAA certification. The Department examined whether the subject workers were eligible for trade adjustment assistance under secondary impact and determined that only a negligible amount of the customer base was trade-affected.

Conclusion

After review of the application and investigative findings, I conclude that there has been no error or misinterpretation of the law or of the facts which would justify reconsideration of the Department of Labor's prior decision. Accordingly, the application is denied.

Signed at Washington, DC this 24th day of July, 2003.
Elliott S. Kushner,
Certifying Officer, Division of Trade Adjustment Assistance.

[FR Doc. 03-20110 Filed 8-6-03; 8:45 am]

BILLING CODE 4510-30-P